FEDERAL ELECTION COMMISSION

Sunshine Act Meeting Notices

Cancellation of previously announced meetings: Tuesday, December 1, 2006, meeting closed to the public and Thursday, December 21, 2006, meeting open to the public.

DATE AND TIME: Thursday, December 14, 2006 at 10 a.m.

PLACE: 999 E Street, NW., Washington, DC (ninth floor).

STATUS: This meeting will be open to the public.

ITEMS TO BE DISCUSSED:

Correction and Approval of Minutes.

Merit and Service Awards.

Election of Officers.

Future Meeting Dates.

Advisory Opinion 2006-33: National Association of Realtors and Realtors Political Action Committee by counsel, Jan Witold Baran.

Prototype Demonstration for Searchable Advisory Opinions.

Management and Administrative Matters.

PERSON TO CONTACT FOR INFORMATION Mr. Robert Biersack, Press Officer, Telephone: (202) 694-1220.

Mary W. Dove,
Secretary of the Commission.

[FR Doc. 06-9648 Filed 12-7-06; 3:48 pm]

BILLING CODE 6715-01-M